DEPARTMENT OF HOUSING AND URBAN DEVELOPMENT

[Docket No. FR-4977-N-07]

Notice of Proposed Information Collection for Public Comment on the 2006 American Housing Survey—Metropolitan Sample

AGENCY: Office of Policy Development and Research, HUD.

ACTION: Notice.

SUMMARY: The proposed information collection requirement described below will be submitted to the Office of Management and Budget (OMB) for review, as required by the Paperwork Reduction Act of 1995. The Department is soliciting public comments on the subject proposal.

DATES: Comments Due Date: October 21, 2005.

ADDRESSES: Interested persons are invited to submit comments regarding this proposal. Comments should refer to the proposal by name and/or OMB Control Number and should be sent to: Reports Liaison Officer, Office of Policy Development and Research, Department of Housing and Urban Development, 451 7th Street, SW., Room 8226, Washington, DC 20410.

FOR FURTHER INFORMATION CONTACT: Ronald J. Sepanik at (202) 708-1060, Ext. 5887 (this is not a toll-free number), or Jane M. Kneessi, U.S. Census Bureau, HHES Division, Washington, DC 20233, (301) 763-3235 (this is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology (e.g., permitting electronic submission of responses).

This Notice also lists the following information:

Title of Proposal: 2006 American Housing Survey—Metropolitan Sample (AHS-MS).

OMB Control Number: 2528-0016.

Description of the need for the information and proposed use: The 2006 AHS-MS provides a periodic measure of the size and composition of the housing inventory in selected metropolitan areas. Title 12, United States Code, Sections 1701z-1, 1701z-2(g), and 1710z-10a mandate the collection of this information.

The 2006 survey is similar to previous AHS-MS surveys and collects data on subjects such as the amount and types of changes in the inventory, the physical condition of the inventory, the characteristics of the occupants, the persons eligible for and beneficiaries of assisted housing by race and ethnicity, and the number and characteristics of vacancies. Policy analysts, program managers, budget analysts, and Congressional staff use AHS data to advise executive and legislative branches about housing conditions and the suitability of public policy initiatives. Academic researchers and private organizations also use AHS data in efforts of specific interest and concern to their respective communities.

The Department of Housing and Urban Development needs the AHS data for two important uses.

1. With the data, policy analysts can monitor the interaction among housing needs, demand, and supply, as well as changes in housing conditions and costs, to aid in the development of housing policies and the design of housing programs appropriate for different target groups, such as first-time homebuyers.

2. With the data, HUD can evaluate, monitor, and design HUD programs to improve efficiency and effectiveness.

Agency Form Numbers: Computerized Versions of AHS-61, AHS-62, and AHS-63.

Members of affected public: Households.

Estimation of the total of hours needed to prepare the information collection including number of respondents, frequency of response, and hours of response:

Number of respondents: 64,751.

Estimated responses per respondent: One every six years.

Time per respondent: 34 minutes.

Total hours to respond: 36,692.

Respondent's obligation: Voluntary.

Status of the proposed information collection: Pending OMB approval.

Authority: Title 13, U.S.C., Section 9(a), and Title 12, U.S.C., Section 1701z-1 et seq.

Dated: August 16, 2005.
Harold L. Bunce,
Deputy Assistant, Secretary for Economic Affairs.

[FR Doc. 05-16604 Filed 8-19-05; 8:45 am]

BILLING CODE 4210-62-M